DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: July 27, 2023, 10:00 a.m.

PLACE: Room 2C, 888 First Street NE, Washington, DC 20426.

STATUS: Open to the public.

MATTERS TO BE CONSIDERED: Agenda. * NOTE—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1103rd—Meeting, Open Meeting
[July 27, 2023, 10:00 a.m.]
Item No. | Docket No. | Company
ADMINISTRATIVE
A-1 | AD23-1-000 | Agency Administrative Matters.
A-2 | AD23-2-000 | Customer Matters, Reliability, Security and Market Operations.
ELECTRIC
E-1 | RM22-14-000 | Improvements to Generator Interconnection Procedures and Agreements.
E-2 | RM22-19-001 | Incentives for Advanced Cybersecurity Investment.
E-3 | ER22-2355-000 | GridLiance Heartland LLC.
E-4 | ER22-2354-000 | GridLiance High Plains LLC.
E-5 | ER22-2353-000 | Florida Power & Light Company.
E-6 | ER22-2466-000 | Cube Yadkin Transmission LLC.
E-7 | ER22-2358-001 | Versant Power.
E-8 | ER22-2304-000 | Nevada Power Company.
E-9 | ER22-2307-000 | Cheyenne Light, Fuel and Power Company.
E-10 | ER21-2592-000, ER21-2592-001 | Pacific Gas and Electric Company.
| EL23-24-000 (not consolidated) | CXA La Paloma, LLC v. California Independent System Operator Corporation.
E-11 | EL23-69-000 | Secure-the-Grid Coalition.
E-12 | EL23-43-000 | arGo Partners GP LLC.
E-13 | EL23-41-000 | arGo Partners GP LLC.
E-14 | ER23-729-001, EL23-19-001 | PJM Interconnection, L.L.C.
HYDRO
H-1 | P-2290-124 | Southern California Edison Company.
H-2 | P-14634-007 | New England Hydropower Company, LLC.
CERTIFICATES
C-1 | CP22-25-000 | Venture Global Calcasieu Pass, LLC.
C-2 | CP20-55-000 | Port Arthur LNG Phase II, LLC and PALNG Common Facilities Company, LLC.
C-3 | CP22-2-000 | Gas Transmission Northwest LLC.
C-4 | CP22-494-000 | Boardwalk Storage Company, LLC.
C-5 | CP22-15-000 | Texas Eastern Transmission, LP.
C-6 | CP22-466-000 | WBI Energy Transmission, Inc.
C-7 | CP22-138-000 | Northern Natural Gas Company.
C-8 | CP22-461-000 | Transcontinental Gas Pipe Line Company, LLC.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: July 20, 2023.
Debbie-Anne A. Reese,
Deputy Secretary.

[FR Doc. 2023-15843 Filed 7-21-23; 4:15 pm]

BILLING CODE 6717-01-P